DEPARTMENT OF AGRICULTURE

Forest Service

Tuolumne-Mariposa Counties Resource Advisory Committee

AGENCY: Forest Service, USDA.

ACTION: Notice of meeting.

SUMMARY: The Tuolumne-Mariposa Counties Resource Advisory Committee (RAC) will meet on May 17, 2010 at the City of Sonora Fire Department, in Sonora, California. The primary purpose of the meeting is to review new project proposals, and to decide which project proponents to invite to make presentations at the June and July RAC meetings.

DATES: The meeting will be held May 17, 2010, from 12 p.m. to 3 p.m.

ADDRESSES: The meeting will be held at the City of Sonora Fire Department located at 201 South Shepherd Street, in Sonora, California (CA 95370).

FOR FURTHER INFORMATION CONTACT: Beth Martinez, Committee Coordinator, USDA, Stanislaus National Forest, 19777 Greenley Road, Sonora, CA 95370 (209) 532-3671, extension 320; e-mail bethmartinez@fs.fed.us.

SUPPLEMENTARY INFORMATION: Agenda items include: (1) Review new project proposals; (2) determine which project proponents to invite to make presentations at the June and July RAC meetings; (3) Public comment. This meeting is open to the public.

Dated: April 2, 2010.
Susan Skalski,
Forest Supervisor.

[FR Doc. 2010-10035 Filed 4-30-10; 8:45 am]

BILLING CODE 3410-ED-M